DEPARTMENT OF VETERANS AFFAIRS

[OMB Control No. 2900-0362]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on the information needed to determine the amount owed to a holder of a defaulted VA guaranteed home loan.

DATES: Written comments and recommendations on the proposed collection of information should be received on or before June 20, 2005.

ADDRESSES: Submit written comments on the collection of information to Nancy J. Kessinger, Veterans Benefits Administration (20M35), Department of Veterans Affairs, 810 Vermont Avenue, NW., Washington, DC 20420 or e-mail: irmnkess@vba.va.gov. Please refer to “OMB Control No. 2900-0362” in any correspondence.

FOR FURTHER INFORMATION CONTACT: Nancy J. Kessinger at (202) 273-7079 or FAX (202) 275-5947.

SUPPLEMENTARY INFORMATION: Under the PRA of 1995 (Public Law 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Titles:

a. Claim Under Loan Guaranty, VA Form 26-1874.

b. Claim Form—Adjustable Rate Mortgages, VA Form 26-1874a.

OMB Control Number: 2900-0362.

Type of Review: Extension of a currently approved collection.

Abstract:

a. Lenders and holders of VA guaranteed home loans use VA Form 26-1874 as notification to VA of default loans.

b. Lenders and holders use VA Form 26-1874a as an attachment to VA Form 26-1874 when filing a claim under the loan guaranty resulting from the termination of an Adjustable Rate Mortgage Loan. VA uses the information obtained on both forms to determine the amount owed to the holder under the guaranty home loan.

Affected Public: Business or other for profit.

Estimated Annual Burden: 26,139 hours.

a. VA Form 26-1874—25,806 hours.

b. VA Form 26-1874a—333 hours.

Estimated Average Burden Per Respondent:

a. VA Form 26-1874—60 minutes.

b. VA Form 26-1874a—20 minutes.

Frequency of Response: On occasion.

Estimated Number of Total Respondents: 26,806.

a. VA Form 26-1874—25,806.

b. VA Form 26-1874a—1,000.

Dated: April 6, 2005.
By direction of the Secretary.
Loise Russell,
Director, Records Management Service.

[FR Doc. 05-7737 Filed 4-18-05; 8:45 am]

BILLING CODE 8320-01-P